DEPARTMENT OF HEALTH AND HUMAN SERVICES

National Institutes of Health

National Institute of Neurological Disorders and Stroke Amended; Notice of Meeting

Notice is hereby given of a change in the meeting of the Neurological Sciences and Disorders C, February 26, 2015, 08:00 a.m. to February 27, 2015, 06:00 p.m., Embassy Suites Alexandria, Alexandria, VA which was published in the Federal Register on January 6, 2015, 80 FR 513.

The meeting date has been changed from February 26-27, 2015 to March 30-31, 2015. The location remains the same. The meeting is closed to the public.

Dated: January 13, 2015.
Carolyn Baum,
Program Analyst, Office of Federal Advisory Committee Policy.

[FR Doc. 2015-00671 Filed 1-16-15; 8:45 am]

BILLING CODE 4140-01-P